DEPARTMENT OF ENERGY

Federal Energy Regulatory Commission

[Docket No. IN09-9-000]

Seminole Energy Services, LLC; Seminole Gas Company, LLC; Seminole High Plains, LLC; Lakeshore Energy Services, LLC; Vanguard Energy Services, LLC

Notice of Amended Designation of Commission Staff as Non-Decisional

September 2, 2010.

On January 15, 2009, the Commission issued an order in the above-captioned docket designating, with certain listed exceptions, the staff of the Office of Enforcement's Division of Investigations (DOI) as non-decisional staff in deliberations by the Commission in this docket.

By this order, the Commission amends the January 15, 2009 notice to add Larry Gasteiger, Deputy Director, Office of Enforcement to the non-decisional staff in this docket. The Commission also adds Norman Bay, Director, Office of Enforcement, Larry Parkinson, Director, DOI, and Geof Hobday of DOI to the January 15, 2009 list of staff excepted from the DOI non-decisional staff designation.

Kimberly D. Bose,
Secretary.

[FR Doc. 2010-22513 Filed 9-9-10; 8:45 am]

BILLING CODE 6717-01-P